DEPARTMENT OF HOMELAND SECURTIY

Federal Emergency Management Agency

44 CFR Part 67

Final Flood Elevation Determinations; Correction

AGENCY: Federal Emergency Management Agency, DHS.

ACTION: Final rule; correction.

SUMMARY: This document corrects the table to a final rule published in the Federal Register of September 17, 2007. This correction clarifies the table representing the flooding source(s), location of referenced elevation, the effective and modified elevation in feet and the communities affected for Cleveland County, North Carolina, and Incorporated Areas; specifically, for the flooding source “Brushy Creek Tributary 1 of Tributary 6,” and for Randolph County, North Carolina, and Incorporated Areas, specifically, for the flooding source “Dodsons Lake 2” than was previously published.

DATES: The date of issuance of the Flood Insurance Rate Map (FIRM) showing BFEs and modified BFEs for each community. This date may be obtained by contacting the office where the maps are available for inspection as indicated on the table below.

FOR FURTHER INFORMATION CONTACT: William R. Blanton, Jr., Engineering Management Branch, Mitigation Directorate, Federal Emergency Management Agency, 500 C Street, SW., Washington, DC 20472, (202) 646-2903.

SUPPLEMENTARY INFORMATION: The Federal Emergency Management Agency (FEMA) publishes final determinations of Base (1-percent-annual-chance) Flood Elevations (BFEs) and modified BFEs for communities participating in the National Flood Insurance Program (NFIP), in accordance with section 110 of the Flood Disaster Protection Act of 1973, 42 U.S.C. 4104, and 44 CFR part 67.

The Federal Emergency Management Agency makes the final determinations for the modified BFEs for each community listed. These modified elevations have been published in newspapers of local circulation and ninety (90) days have elapsed since that publication. The Assistant Administrator for the Mitigation Directorate of FEMA has resolved any appeals resulting from this notification.

Correction

Accordingly, in final rule FR Doc. E7-18260 published on September 17, 2007, (72 FR 52796), the following corrections are made to 44 CFR part 67:

§ 67.11 [Corrected]

1. On page 52798, in § 67.11, in the table with center heading Cleveland County, North Carolina, and Incorporated Areas, the flooding source(s), location of referenced elevation, the effective and modified elevation in feet and the communities affected for flooding source “Brushy Creek Tributary 6”, and on page 52811, in § 67.11, in the table with the center heading Randolph County, North Carolina, and Incorporated Areas, the flooding source(s), location of referenced elevation, the effective and modified elevation in feet and the communities affected for flooding source “Dodsons Lake Tributary 2”, needs to be corrected to read as follows:

Flooding source(s) | Location of referenced elevation** | *Elevation in feet (NGVD) +Elevation in feet (NAVD) # Depth in feet above ground Modified | Communities affected
* * * * * * *
Cleveland County, North Carolina, and Incorporated Areas
Docket No.: FEMA-B-7711
* * * * * * *
Brushy Creek Tributary 1 of Tributary 6 | At the confluence with Brushy Creek Tributary 6 | +752 | Cleveland County (Unincorporated Areas).
| Approximately 820 feet upstream of Barbee Road | +780
* * * * * * *
Randolph County, North Carolina, and Incorporated Areas
Docket Nos.: FEMA-D-7630, FEMA-D-7686, and FEMA-D-7694
* * * * * * *
Dodsons Lake 2 | At the confluence with Dodsons Lake | +613 | Randolph County (Unincorporated Areas).
| Approximately 0.3 mile upstream of the confluence with Dodsons Lake | +626
* * * * * * *

Dated: December 6, 2007.
David I. Maurstad,
Federal Insurance Administrator of the National Flood Insurance Program, Department of Homeland Security, Federal Emergency Management Agency.

[FR Doc. E7-25296 Filed 12-27-07; 8:45 am]

BILLING CODE 9110-12-P